DEPARTMENT OF HEALTH AND HUMAN SERVICES

Administration for Children and Families

Submission for OMB Review; Comment Request

Title: Evaluation of Employment Coaching for TANF and Other Low-Income Populations.

OMB NO.: New Collection.

Description: The Administration for Children and Families (ACF) is proposing a data collection activity as part of the Evaluation of Employment Coaching for TANF and Other Low-Income Populations. This study will provide an opportunity to learn more about the potential of coaching to help clients achieve self-sufficiency and other desired employment-related outcomes. It will take place over five years in up to three employment programs. These programs may be Temporary Assistance for Needy Families (TANF) agencies or other public or private employment programs that serve low-income individuals. Selected sites will include a robust coaching component and have the capacity to conduct a rigorous impact evaluation, among other criteria. This study will provide information on whether coaching helps people obtain and retain jobs, advance in their careers, move toward self-sufficiency, and improve their overall well-being. To meet these objectives, this study will include an impact and implementation study.

The impact study will involve participants being randomly assigned to either a “program group,” who will be paired with a coach, or to a “control group,” who will not be paired with a coach. The effectiveness of the coaching will be determined by differences between members of the program and control groups in outcomes such as obtaining and retaining employment, earnings, measures of self-sufficiency, and measures of self-regulation.

The implementation study will document coaching practices, describe lessons learned from implementing coaching, and enhance interpretation of the impact study findings.

The proposed information collection activities are: (1) Baseline data collection: Collection of characteristics data on all study participants as they enroll in the study. Data will be entered into the Random Assignment, Participant Tracking Enrollment, and Reporting (RAPTER) system; (2) First follow-up survey: Collection of outcome data for a subset of study participants about 9 months after random assignment; (3) Semi-structured staff interviews: Collection of qualitative data on the design and implementation of the program; (4) Staff survey: Collection of information on staff members' professional backgrounds, training, coaching practices, and attitudes; (5) In-depth participant interviews: Collection of detailed information about the participants' backgrounds and experiences with coaching; (6) Staff reports of program service receipt: Collection of data on coaching and other program services received by study participants and entered into RAPTER; and (7) Video recordings of coaching sessions: Collection of data on the interaction between the coaches and participants.

A second follow-up survey will be administered approximately 21 months after random assignment. This data collection activity will be included under a separate OMB submission.

Respondents: Program staff and individuals enrolled in the Evaluation of Employment Coaching for TANF and Other Low-Income Populations. Program staff may include coaches, case managers, workshop instructors, job developers, supervisors, and managers. All participants will be able to opt out of participating in the data collection activities.

Annual Burden Estimates
Instrument | Total number of respondents | Annual number of respondents | Number of responses per respondent | Average burden hours per response | Annual burden hours
Baseline data collection—study participants | 6,000 | 2,000 | 1 | 0.33 | 660
Baseline data collection—staff | 60 | 20 | 100 | 0.33 | 660
First follow-up survey | 2,400 | 800 | 1 | 1 | 800
Semi-structured staff interviews | 66 | 22 | 1 | 1.5 | 33
Staff survey | 48 | 16 | 1 | 0.75 | 12
In-depth participant interviews | 24 | 8 | 1 | 2.5 | 20
Staff reports of program service receipt | 30 | 10 | 5,200 | 0.03 | 1,560
Video recordings of coaching sessions | 27 | 9 | 10 | 0.10 | 9

Estimated Total Annual Burden Hours: 3,754.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Mary Jones,
ACF/OPRE Certifying Officer.

[FR Doc. 2017-18226 Filed 8-28-17; 8:45 am]

BILLING CODE 4184-09-P